SMALL BUSINESS ADMINISTRATION

13 CFR Part 121

RIN 3245-AF11

Small Business Size Standards; Restructuring of Size Standards

AGENCY: U.S. Small Business Administration (SBA).

ACTION: Proposed rule; notice of extension of comment period.

SUMMARY: On March 19, 2004, the SBA proposed to restructure its small business size standards by establishing size standards in terms of the number of employees of a business concern for most industries and SBA programs. The rule proposes to establish 10 employee-based size standards ranging from 50 employees and 1,500 employees, depending on the industry or SBA program. The proposed rule also proposed other changes to simplify the size standards and provided a 60-day comment period closing on May 18, 2004.

SBA is extending the comment period an additional 45 days to July 2, 2004. The proposal to restructure size standards has generated a significant level of interest among small businesses. Given the scope of the proposal and the nature of the issues raised by the comments received to date, SBA believes that affected businesses need more time to review the proposal and prepare their comments.

DATES: The comment period for the proposed rule published on March 19, 2004 (69 FR 13130) is extended through July 2, 2004.

ADDRESSES: You may submit comments, identified by RIN number 3245-AF11, by any of the following methods: Through the Federal eRulemaking portal at http://www.regulations.gov; by mail to Gary M. Jackson, Assistant Administrator for Size Standards, U.S. Small Business Administration, 409 Third St., SW., Mail Code 6530, Washington, DC 20416; by email (include RIN number in the subject line) to restructure.sizestandards@sba.gov; or via facsimile at (202) 205-6390.

FOR FURTHER INFORMATION CONTACT: Contact the SBA's Office of Size Standards at (202) 205-6618 or sizestandards@sba.gov.

Dated: May 12, 2004.
Allegra F. McCullough,
Associate Deputy Administrator for Government Contracting and Business Development.

[FR Doc. 04-11160 Filed 5-14-04; 8:45 am]

BILLING CODE 8025-01-P